DEPARTMENT OF ENERGY

[OE Docket No. EA-290-D]

Application To Export Electric Energy; Ontario Power Generation Inc.

AGENCY: Office of Electricity, Department of Energy.

ACTION: Notice of application.

SUMMARY: Ontario Power Generation Inc. (Applicant or OPG) has applied for authorization to transmit electric energy from the United States to Canada pursuant to the Federal Power Act.

DATES: Comments, protests, or motions to intervene must be submitted on or before March 22, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On January 19, 2021, OPG filed an application with DOE (Application or App.) to transmit electric energy from the United States to Canada for a term of ten years. OPG states that it “is an Ontario corporation having its principal place of business at Toronto, Ontario, Canada.” App. at 1. OPG further represents that “all of the outstanding shares of OPG are held in the name of the Provincial Government of Ontario.” Id. OPG represents that it “does not own or control any transmission or distribution assets and does not have a franchised service area in the United States.” Id. OPG clarifies that “OPGET, a power marketing and trading entity owned by OPG makes power sales within the United States, and at the international border with Canada pursuant to its FERC market-based rate authorization[, but] does not export power from the United States to Canada.” Id. at 2.

OPC further states that it “will purchase the power to be exported from a variety of sources such as power marketers, independent power producers or U.S. electric utilities and Federal power marketing agencies as those terms are defined in section 3(22) and 3(19) of the FPA.” App. at 4. OPG adds that “by definition, such power is surplus to the system of the generator”. Id. OPG contends that “the electric power that [it] will export to Canada from these markets, on either a firm or interruptible basis, will not impair the sufficiency of the electric power supply within the United States.” Id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning OPG's application to export electric energy to Canada should be clearly marked with OE Docket No. EA-290-D. Additional copies are to be provided directly to Jerry L Pfeffer, 1440 New York Avenue NW, Washington, DC 20005, jpfeffer@skadden.com; and Karen Cooke, 700 University Avenue, Toronto, Ontario MSG IX6, Canada, karen.cooke@opg.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matt Aronoff at matthew.aronoff@hq.doe.gov.

Signed in Washington, DC, on February 1, 2021.
Christopher Lawrence,
Management and Program Analyst, Energy Resilience Division, Office of Electricity.

[FR Doc. 2021-03400 Filed 2-18-21; 8:45 am]

BILLING CODE 6450-01-P